DEPARTMENT OF LABOR

Office of the Secretary

20 CFR Chs. I, IV, V, VI, VII, and IX

29 CFR Subtitle A and Chs. II, IV, V, XVII, and XXV

30 CFR Ch. I

41 CFR Ch. 60

48 CFR Ch. 29

Semiannual Agenda of Regulations

AGENCY: Department of Labor.

ACTION: Semiannual regulatory agenda.

SUMMARY: The Internet has become the means for disseminating the entirety of the Department of Labor's semiannual regulatory agenda. However, the Regulatory Flexibility Act requires publication of a regulatory flexibility agenda in the Federal Register. This Federal Register Notice contains the regulatory flexibility agenda.

FOR FURTHER INFORMATION CONTACT: Kathleen Franks, Director, Office of Regulatory Policy, Office of the Assistant Secretary for Policy, U.S. Department of Labor, 200 Constitution Avenue NW., Room S-2312, Washington, DC 20210; (202) 693-5959.

Note: Information pertaining to a specific regulation can be obtained from the agency contact listed for that particular regulation.

SUPPLEMENTARY INFORMATION: Executive Order 12866 requires the semiannual publication of an agenda of regulations that contains a listing of all the regulations the Department of Labor expects to have under active consideration for promulgation, proposal, or review during the coming one-year period. The entirety of the Department's semiannual agenda is available online at www.reginfo.gov.

The Regulatory Flexibility Act (5 U.S.C. 602) requires DOL to publish in the Federal Register a regulatory flexibility agenda. The Department's Regulatory Flexibility Agenda published with this notice, includes only those rules on its semiannual agenda that are likely to have a significant economic impact on a substantial number of small entities, and those rules identified for periodic review in keeping with the requirements of section 610 of the Regulatory Flexibility Act. Thus, the regulatory flexibility agenda is a subset of the Department's semiannual regulatory agenda.

Occupational Safety and Health Administration

Bloodborne Pathogens (RIN 1218-AC34)

All interested members of the public are invited and encouraged to let departmental officials know how our regulatory efforts can be improved, and are invited to participate in and comment on the review or development of the regulations listed on the Department's agenda.

Thomas E. Perez,
Secretary of Labor.

Wage and Hour Division—Proposed Rule Stage
Sequence No. | Title | Regulation Identifier No.
198 | Defining and Delimiting the Exemptions for Executive, Administrative, Professional, Outside Sales, and Computer Employees | 1235-AA11

Employee Benefits Security Administration—Completed Actions
Sequence No. | Title | Regulation Identifier No.
199 | Ninety-Day Waiting Period Limitation and Technical Amendments to Certain Health Coverage Requirements Under the Affordable Care Act | 1210-AB56

Occupational Safety and Health Administration—Prerule Stage
Sequence No. | Title | Regulation Identifier No.
200 | Bloodborne Pathogens (Section 610 Review) | 1218-AC34
201 | Combustible Dust | 1218-AC41
202 | Infectious Diseases | 1218-AC46
203 | Preventing Backover Injuries and Fatalities | 1218-AC51

Occupational Safety and Health Administration—Proposed Rule Stage
Sequence No. | Title | Regulation Identifier No.
204 | Occupational Exposure to Crystalline Silica | 1218-AB70
205 | Occupational Exposure to Beryllium | 1218-AB76

Occupational Safety and Health Administration—Final Rule Stage
Sequence No. | Title | Regulation Identifier No.
206 | Confined Spaces in Construction | 1218-AB47

Occupational Safety and Health Administration—Long-Term Actions
Sequence No. | Title | Regulation Identifier No.
207 | Injury and Illness Prevention Program | 1218-AC48

Occupational Safety and Health Administration—Completed Actions
Sequence No. | Title | Regulation Identifier No.
208 | Electric Power Transmission and Distribution; Electrical Protective Equipment | 1218-AB67

DEPARTMENT OF LABOR (DOL)

Wage and Hour Division (WHD)

Proposed Rule Stage

198. • Defining and Delimiting the Exemptions for Executive, Administrative, Professional, Outside Sales, and Computer Employees

Legal Authority: Fair Labor Standards Act 29 U.S.C. 213(a)(1)

Abstract: The Fair Labor Standards Act (FLSA) section 13(a)(1) provides a minimum wage and overtime exemption for any employee employed in a bona fide executive, administrative, professional capacity, or in the capacity of an outside salesperson. President Barack Obama issued a memorandum to the Secretary of Labor on March 13, 2014, directing the Secretary to modernize and streamline the existing overtime regulations for executive, administrative, and professional employees. The Department of Labor last updated these regulations in 2004.

Timetable:

Action | Date | FR Cite
NPRM | 11/00/14 |

Regulatory Flexibility Analysis Required: Yes.

Agency Contact: Mary Ziegler, Director, Division of Regulations, Legislation, and Interpretation, Department of Labor, 200 Constitution Avenue NW., FP Building, Room S-3502, Washington, DC 20210, Phone: 202 693-0406, Fax: 202 693-1387.

RIN: 1235-AA11

DEPARTMENT OF LABOR (DOL)

Employee Benefits Security Administration (EBSA)

Completed Actions

199. Ninety-Day Waiting Period Limitation and Technical Amendments to Certain Health Coverage Requirements Under the Affordable Care Act

Legal Authority: 29 U.S.C. 1185d

Abstract: The Patient and Affordable Care Act of 2010 (the Affordable Care Act) amended title I of the Employment Retirement Income Security Act (ERISA), by adding a new section 715 which encompasses various health reform provisions of the Public Health Service (PHS) Act. These regulations provide guidance on the 90-day waiting period limitation under section 2708 of the PHS Act and makes technical amendments to regulations to conform to Affordable Care Act provisions already in effect, as well as those that will become effective beginning 2014.

Timetable:

Action | Date | FR Cite
NPRM | 03/21/13 | 78 FR 17313
NPRM Comment Period End | 05/20/13 |
Final Rule | 02/24/14 | 79 FR 10296
Final Rule Effective | 04/25/14 |

Regulatory Flexibility Analysis Required: Yes.

Agency Contact: Amy J. Turner, Senior Advisor, Department of Labor, Employee Benefits Security Administration, 200 Constitution Avenue NW., FP Building, Room N-5653, Washington, DC 20210, Phone: 202 693-8335, Fax: 202 219-1942.

RIN: 1210-AB56

DEPARTMENT OF LABOR (DOL)

Occupational Safety and Health Administration (OSHA)

Prerule Stage

200. Bloodborne Pathogens (Section 610 Review)

Legal Authority: 5 U.S.C. 533; 5 U.S.C. 610; 29 U.S.C. 655(b)

Abstract: OSHA will undertake a review of the Bloodborne Pathogen Standard (29 CFR 1910.1030) in accordance with the requirements of the Regulatory Flexibility Act and section 5 of Executive Order 12866. The review will consider the continued need for the rule; whether the rule overlaps, duplicates, or conflicts with other Federal, State or local regulations; and the degree to which technology, economic conditions, or other factors may have changed since the rule was evaluated.

Timetable:

Action | Date | FR Cite
Begin Review | 10/22/09 |
Request for Comments Published | 05/14/10 | 75 FR 27237
Comment Period End | 08/12/10 |
End Review and Issue Findings | 07/00/14 |

Regulatory Flexibility Analysis Required: No.

Agency Contact: John Hermanson, Acting Director, Directorate of Evaluation and Analysis, Department of Labor, Occupational Safety and Health Administration, 200 Constitution Avenue NW., Room N-3641, Washington, DC 20210, Phone: 202 693-2400, Fax: 202 693-1641, Email: hermanson.john@dol.gov.

RIN: 1218-AC34

201. Combustible Dust

Legal Authority: 29 U.S.C. 655(b); 29 U.S.C. 657

Abstract: Occupational Safety and Health Administration (OSHA) has commenced rulemaking to develop a combustible dust standard for general industry. The U.S. Chemical Safety Board (CSB) completed a study of combustible dust hazards in late 2006, which identified 281 combustible dust incidents between 1980 and 2005 that killed 119 workers and injured another 718. Based on these findings, the CSB recommended the Agency pursue a rulemaking on this issue. OSHA has previously addressed aspects of this risk. For example, on July 31, 2005, OSHA published the Safety and Health Information Bulletin, “Combustible Dust in Industry: Preventing and Mitigating the Effects of Fire and Explosions.” Additionally, OSHA implemented a Combustible Dust National Emphasis Program (NEP) on March 11, 2008, launched a new Web page, and issued several other guidance documents. However, the Agency does not have a comprehensive standard that addresses combustible dust hazards.

OSHA will use the information gathered from the NEP to assist in the development of this rule. OSHA published an ANPRM October 21, 2009. Additionally, stakeholder meetings were held in Washington, DC, on December 14, 2009, in Atlanta, GA, on February 17, 2010, and in Chicago, IL, on April 21, 2010. A webchat for combustible dust was also held on June 28, 2010, and an expert forum was convened on May 13, 2011.

Timetable:

Action | Date | FR Cite
ANPRM | 10/21/09 | 74 FR 54333
Stakeholder Meetings | 12/14/09 |
ANPRM Comment Period End | 01/19/10 |
Stakeholder Meetings | 02/17/10 |
Stakeholders Meetings | 03/09/10 | 75 FR 10739
Initiate SBREFA | 12/00/14 |

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AC41

202. Infectious Diseases

Legal Authority: 5 U.S.C. 533; 29 U.S.C. 657 and 658; 29 U.S.C. 660; 29 U.S.C. 666; 29 U.S.C. 669; 29 U.S.C. 673; . . .

Abstract: Employees in health care and other high-risk environments face long-standing infectious disease hazards such as tuberculosis (TB), varicella disease (chickenpox, shingles), and measles (rubeola), as well as new and emerging infectious disease threats, such as Severe Acute Respiratory Syndrome (SARS) and pandemic influenza. Health care workers and workers in related occupations, or who are exposed in other high-risk environments, are at increased risk of contracting TB, SARS, Methicillin-resistant Staphylococcus aureus (MRSA), and other infectious diseases that can be transmitted through a variety of exposure routes. OSHA is concerned about the ability of employees to continue to provide health care and other critical services without unreasonably jeopardizing their health. OSHA is considering the need for a standard to ensure that employers establish a comprehensive infection control program and control measures to protect employees from infectious disease exposures to pathogens that can cause significant disease. Workplaces where such control measures might be necessary include: Health care, emergency response, correctional facilities, homeless shelters, drug treatment programs, and other occupational settings where employees can be at increased risk of exposure to potentially infectious people. A standard could also apply to laboratories, which handle materials that may be a source of pathogens, and to pathologists, coroners' offices, medical examiners, and mortuaries.

Timetable:

Action | Date | FR Cite
Request for Information (RFI) | 05/06/10 | 75 FR 24835
RFI Comment Period End | 08/04/10 |
Analyze Comments | 12/30/10 |
Stakeholder Meetings | 07/29/11 |
Initiate SBREFA | 05/00/14 |

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AC46

203. Preventing Backover Injuries and Fatalities

Legal Authority: 29 U.S.C. 655(b)

Abstract: OSHA published an RFI (77 FR 18973; March 29, 2012) that sought information on two subjects: (1) Preventing backover injuries; and (2) the hazards and risks of reinforcing concrete operations in construction, including post-tensioning.

Backing vehicles and equipment are common causes of struck-by injuries and can also cause caught-between injuries when backing vehicles and equipment pin a worker against an object. Struck-by injuries and caught-between injuries are two of the four leading causes of workplace fatalities. The Bureau of Labor Statistics reports that in 2011, 75 workers were fatally backed over while working. While many backing incidents can prove to be fatal, workers can suffer severe, non-fatal injuries as well. A review of OSHA's Integrated Management Information System (IMIS) database found that backing incidents can result in serious injury to the back and pelvis, fractured bones, concussions, amputations, and other injuries. Emerging technologies in the field of backing operations may prevent incidents. The technologies include cameras and proximity detection systems. The use of spotters and internal traffic control plans can also make backing operations safer. The Agency has held stakeholder meetings on backovers, and is conducting site visits to employers.

Current rules regarding reinforcing steel and post-tensioning activities may not adequately address worker hazards in work related to post-tensioning and reinforcing steel. Both are techniques for reinforcing concrete and are generally used in many types of construction. OSHA's IMIS data indicates that 31 workers died while performing work on or near post-tensioning operations or reinforcing steel between 2000 and 2009.

Currently, workers performing steel reinforcing suffer injuries caused by unsafe material handling, structural collapse, and impalement by protruding reinforcing steel dowels, among other causes. Employees involved in post-tensioning activities are at risk for incidents caused by the misuse of post-tensioning equipment and improper training. The Agency is continuing to seek information about injuries and hazards of reinforcing steel operations.

Timetable:

Action | Date | FR Cite
Request for Information | 03/29/12 | 77 FR 18973
Comment Period End | 07/27/12 |
Analyze Comments (Concrete) | 05/00/14 |
Initiate SBREFA (Backovers) | 08/00/14 |

Regulatory Flexibility Analysis Required: Yes.

Agency Contact: Jim Maddux, Director, Directorate of Construction, Department of Labor, Occupational Safety and Health Administration, FP Building, Room N-3468, 200 Constitution Avenue NW., Washington, DC 20210, Phone: 202 693-2020, Fax: 202 693-1689, Email: maddux.jim@dol.gov.

RIN: 1218-AC51

DEPARTMENT OF LABOR (DOL)

Occupational Safety and Health Administration (OSHA)

Proposed Rule Stage

204. Occupational Exposure to Crystalline Silica

Legal Authority: 29 U.S.C. 655(b); 29 U.S.C. 657

Abstract: Crystalline silica is a significant component of the Earth's crust, and many workers in a wide range of industries are exposed to it, usually in the form of respirable quartz or, less frequently, cristobalite. Chronic silicosis is a uniquely occupational disease resulting from exposure of employees over long periods of time (10 years or more). Exposure to high levels of respirable crystalline silica causes acute or accelerated forms of silicosis that are ultimately fatal. The current Occupational Safety and Health Administration (OSHA) permissible exposure limit (PEL) for general industry is based on a formula proposed by the American Conference of Governmental Industrial Hygienists (ACGIH) in 1968 (PEL = 10mg/cubic meter/(% silica + 2), as respirable dust). The current PEL for construction and shipyards (derived from ACGIH's 1970 Threshold Limit Value) is based on particle counting technology, which is considered obsolete. National Institute for Occupational Safety and Health (NIOSH) and ACGIH recommend 50µg/m3 and 25µg/m3 exposure limits, respectively, for respirable crystalline silica.

Both industry and worker groups have recognized that a comprehensive standard for crystalline silica is needed to provide for exposure monitoring, medical surveillance, and worker training. ASTM International has published recommended standards for addressing the hazards of crystalline silica. The Building Construction Trades Department of the AFL-CIO has also developed a recommended comprehensive program standard. These standards include provisions for methods of compliance, exposure monitoring, training, and medical surveillance.

Timetable:

Action | Date | FR Cite
Completed SBREFA Report | 12/19/03 |
Initiated Peer Review of Health Effects and Risk Assessment | 05/22/09 |
Completed Peer Review | 01/24/10 |
NPRM | 09/12/13 | 78 FR 56274
NPRM Comment Period Extended; Notice of Intention to Appear at Pub Hearing; Scheduling Pub Hearing | 10/31/13 | 78 FR 65242
NPRM Comment Period Extended | 01/29/14 | 79 FR 4641
Informal Public Hearing | 03/18/14 |
Post Hearing Comment Period Ends | 07/00/14 |

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AB70

205. Occupational Exposure to Beryllium

Legal Authority: 29 U.S.C. 655(b); 29 U.S.C. 657

Abstract: In 1999 and 2001, OSHA was petitioned to issue an emergency temporary standard for permissible exposure limit (PEL) to beryllium by the United Steel Workers (formerly the Paper Allied-Industrial, Chemical, and Energy Workers Union), Public Citizen Health Research Group, and others. The Agency denied the petitions but stated its intent to begin data gathering to collect needed information on beryllium's toxicity, risks, and patterns of usage.

On November 26, 2002, OSHA published a Request for Information (RFI) (67 FR 70707) to solicit information pertinent to occupational exposure to beryllium, including: Current exposures to beryllium; the relationship between exposure to beryllium and the development of adverse health effects; exposure assessment and monitoring methods; exposure control methods; and medical surveillance. In addition, the Agency conducted field surveys of selected worksites to assess current exposures and control methods being used to reduce employee exposures to beryllium. OSHA convened a Small Business Advocacy Review Panel under the Small Business Regulatory Enforcement Fairness Act (SBREFA) and completed the SBREFA Report in January 2008. OSHA also completed a scientific peer review of its draft risk assessment.

Timetable:

Action | Date | FR Cite
Request for Information | 11/26/02 | 67 FR 70707
Request for Information Comment Period End | 02/24/03 |
SBREFA Report Completed | 01/23/08 |
Initiated Peer Review of Health Effects and Risk Assessment | 03/22/10 |
Complete Peer Review | 11/19/10 |
NPRM | 07/00/14 |

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AB76

DEPARTMENT OF LABOR (DOL)

Occupational Safety and Health Administration (OSHA)

Final Rule Stage

206. Confined Spaces in Construction

Legal Authority: 29 U.S.C. 655(b); 40 U.S.C. 333

Abstract: In 1993, OSHA issued a rule to protect employees who enter confined spaces while engaged in general industry work (29 CFR 1910.146). This standard has not been extended to cover employees entering confined spaces while engaged in construction work because of unique characteristics of construction worksites. Pursuant to discussions with the United Steel Workers of America that led to a settlement agreement regarding the general industry standard, OSHA agreed to issue a proposed rule to protect construction workers in confined spaces.

Timetable:

Action | Date | FR Cite
SBREFA Panel Report | 11/24/03 |
NPRM | 11/28/07 | 72 FR 67351
NPRM Comment Period End | 01/28/08 |
NPRM Comment Period Extended | 02/28/08 | 73 FR 3893
Public Hearing | 07/22/08 |
Close Record | 10/23/08 |
Final Rule | 08/00/14 |

Regulatory Flexibility Analysis Required: Yes.

Agency Contact: Jim Maddux, Director, Directorate of Construction, Department of Labor, Occupational Safety and Health Administration, FP Building, Room N-3468, 200 Constitution Avenue NW., Washington, DC 20210, Phone: 202 693-2020, Fax: 202 693-1689, Email: maddux.jim@dol.gov.

RIN: 1218-AB47

DEPARTMENT OF LABOR (DOL)

Occupational Safety and Health Administration (OSHA)

Long-Term Actions

207. Injury and Illness Prevention Program

Legal Authority: 29 U.S.C. 653; 29 U.S.C. 655(b); 29 U.S.C. 657

Abstract: OSHA is developing a rule requiring employers to implement an Injury and Illness Prevention Program. It involves planning, implementing, evaluating, and improving processes and activities that protect employee safety and health. OSHA has substantial data on reductions in injuries and illnesses from employers who have implemented similar effective processes. The Agency currently has voluntary Safety and Health Program Management Guidelines (54 FR 3904 to 3916), published in 1989. An injury and illness prevention program rule would build on these guidelines as well as lessons learned from successful approaches and best practices under OSHA's Voluntary Protection Program, Safety and Health Achievement Recognition Program, and similar industry and international initiatives such as American National Standards Institute/American Industrial Hygiene Association Z10, and Occupational Health and Safety Assessment Series 18001.

Timetable:

Action | Date | FR Cite
Stakeholder Meetings | 06/03/10 | 75 FR 35360 and 75 FR 23637
Initiate SBREFA | 01/06/12 |
NPRM | To Be | Determined

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AC48

DEPARTMENT OF LABOR (DOL)

Occupational Safety and Health Administration (OSHA)

Completed Actions

208. Electric Power Transmission and Distribution; Electrical Protective Equipment

Legal Authority: 29 U.S.C. 655(b); 40 U.S.C. 333

Abstract: Electrical hazards are a major cause of occupational death in the United States. The annual fatality rate for power line workers is about 50 deaths per 100,000 employees. The construction industry standard addressing the safety of these workers during the construction of electric power transmission and distribution lines is nearly 40 years old. Occupational Safety and Health Administration (OSHA) has developed a revision of this standard that will prevent many of these fatalities, add flexibility to the standard, and update and streamline the standard. OSHA also intends to amend the corresponding standard for general industry so that requirements for work performed during the maintenance of electric power transmission and distribution installations are the same as those for similar work in construction. In addition, OSHA will be revising a few miscellaneous general industry requirements primarily affecting electric transmission and distribution work, including provisions on electrical protective equipment and foot protection. This rulemaking also addresses fall protection in aerial lifts for work on power generation, transmission, and distribution installations.

Timetable:

Action | Date | FR Cite
SBREFA Report | 06/30/03 |
NPRM | 06/15/05 | 70 FR 34821
NPRM Comment Period End | 10/13/05 |
NPRM Comment Period Extended | 10/12/05 | 70 FR 59290
Notice of Informal Public Hearing | 10/12/05 | 70 FR 59290
Informal Public Hearing | 03/06/06 |
Post Hearing Comment Period End | 07/14/06 |
Reopen Record | 10/22/08 | 73 FR 62942
Comment Period End | 11/21/08 |
Second Reopening Record | 09/14/09 | 74 FR 46958
Comment Period End | 10/15/09 |
Public Hearings | 10/28/09 |
Post Hearing Comment Period End | 02/10/10 |
Final Rule | 04/11/14 | 79 FR 20315
Final Rule Effective | 07/10/14 |

Regulatory Flexibility Analysis Required: Yes.

Agency Contact: William Perry, Acting Director, Directorate of Standards and Guidance, Department of Labor, Occupational Safety and Health Administration, 200 Constitution Avenue NW., Room N-3718, Washington, DC 20210, Phone: 202 693-1950, Fax: 202 693-1678, Email: perry.bill@dol.gov.

RIN: 1218-AB67

[FR Doc. 2014-13126 Filed 6-12-14; 8:45 am]

BILLING CODE 4510-04-P